DEPARTMENT OF ENERGY

Federal Energy Regulatory Commission

Combined Notice of Filings #1

Take notice that the Commission received the following electric rate filings:

Docket Numbers: ER10-1246-002; ER10-1982-003; ER10-1253-002; ER10-1252-002; ER13-764-001; ER12-2498-002; ER12-2499-002.

Applicants: Consolidated Edison Energy, Inc.

Description: Consolidated Edison Energy, Inc., et al. Supplement to May 24, 2013 Notice of non-material change status.

Filed Date: 6/11/13.

Accession Number: 20130611-5146.

Comments Due: 5 p.m. ET 7/2/13.

Docket Numbers: ER10-2374-001; ER10-1533-002.

Applicants: Puget Sound Energy, Inc., Macquarie Energy LLC.

Description: Supplement to December 17, 2012 Notice of Non-Material Change in Status of Puget Sound Energy, Inc. et al.

Filed Date: 6/12/13.

Accession Number: 20130612-5126.

Comments Due: 5 p.m. ET 7/3/13.

Docket Numbers: ER11-3643-005.

Applicants: PacifiCorp.

Description: PacifiCorp submits tariff filing per 35: OATT Revised Sections per Transmission Rate Case to be effective 12/25/2011.

Filed Date: 6/13/13.

Accession Number: 20130613-5077.

Comments Due: 5 p.m. ET 7/5/13.

Docket Numbers: ER13-1199-001.

Applicants: New York Independent System Operator, Inc.

Description: NYISO compliance filing notice of delay effective date to be effective 6/18/2013.

Filed Date: 6/12/13.

Accession Number: 20130612-5113.

Comments Due: 5 p.m. ET 7/3/13.

Docket Numbers: ER13-1380-001.

Applicants: New York Independent System Operator, Inc.

Description: NYISO Response to NCZ Deficiency Letter to be effective 1/27/2014.

Filed Date: 6/12/13.

Accession Number: 20130612-5120.

Comments Due: 5 p.m. ET 6/19/13.

Docket Numbers: ER13-1552-001.

Applicants: Midcontinent Independent System Operator, Inc.

Description: Name Change Withdrawal Filing #3 to be effective N/A.

Filed Date: 6/12/13.

Accession Number: 20130612-5041.

Comments Due: 5 p.m. ET 7/3/13.

Docket Numbers: ER13-1679-000.

Applicants: San Diego Gas & Electric Company.

Description: LGIA Amendment to be effective 6/13/2013.

Filed Date: 6/12/13.

Accession Number: 20130612-5084.

Comments Due: 5 p.m. ET 7/3/13.

Docket Numbers: ER13-1680-000.

Applicants: EDF Industrial Power Services (OH), LLC.

Description: EDF Industrial OH Rate Schedule to be effective 6/13/2013.

Filed Date: 6/12/13.

Accession Number: 20130612-5086.

Comments Due: 5 p.m. ET 7/3/13.

Docket Numbers: ER13-1681-000.

Applicants: PJM Interconnection, L.L.C.

Description: Ministerial Clean-Up Filing-Section 7.4 of the OATT Att K and OA Schedule 1 to be effective 6/1/2013.

Filed Date: 6/12/13.

Accession Number: 20130612-5104.

Comments Due: 5 p.m. ET 7/3/13.

Docket Numbers: ER13-1682-000.

Applicants: Florida Power & Light Company.

Description: Rate Schedule No. 325 SR 70 Substation IA between FPL, Seminole and Peace River to be effective 8/11/2013.

Filed Date: 6/12/13.

Accession Number: 20130612-5117.

Comments Due: 5 p.m. ET 7/3/13.

Docket Numbers: ER13-1683-000.

Applicants: New York Independent System Operator, Inc.

Description: New York Independent System Operator, Inc. confidential information requests and CFTC exemptions to be effective 9/15/2013.

Filed Date: 6/13/13.

Accession Number: 20130613-5085.

Comments Due: 5 p.m. ET 7/5/13.

Docket Numbers: ER13-1684-000.

Applicants: New York Independent System Operator, Inc.

Description: New York Independent System Operator, Inc.: NYISO/PJM joint 205 filing on JOA M2M provision to be effective 8/14/2013.

Filed Date: 6/13/13.

Accession Number: 20130613-5086.

Comments Due: 5 p.m. ET 7/5/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 13, 2013.
Nathaniel J. Davis, Sr.,
Deputy Secretary.

[FR Doc. 2013-15387 Filed 6-26-13; 8:45 am]

BILLING CODE 6717-01-P